NUCLEAR REGULATORY COMMISSION

[NRC-2010-0202]

Condition Monitoring Techniques for Electric Cables Used in Nuclear Power Plants

AGENCY: Nuclear Regulatory Commission.

ACTION: Regulatory guide; issuance.

SUMMARY: The U.S. Nuclear Regulatory Commission (NRC or the Commission) is issuing a new guide regulatory guide, (RG) 1.218, “Condition Monitoring Techniques for Electric Cables Used in Nuclear Power Plants.” This guide describes techniques that the staff of the NRC considers acceptable for condition monitoring of electric cables for nuclear power plants. RG 1.218 is not intended to be prescriptive, instead it provides a description of many available techniques for testing cables of various configurations typically found in a nuclear power plant and discusses the potential suitability and known limitations of each.

ADDRESSES: Please refer to Docket ID NRC-2010-0202 when contacting the NRC about the availability of information regarding this document. You may access information related to this document, which the NRC possesses and is publicly available, using the following methods:

• Federal Rulemaking Web site: Go to http://www.regulations.gov and search for Docket ID NRC-2010-0202. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Regulatory Guide 1.218, is available in ADAMS under Accession No. ML103510447. The regulatory analysis may be found in ADAMS under Accession No. ML103510458.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Richard Jervey, U. S. Nuclear Regulatory Commission, Washington, DC 20555-0001, telephone: (301) 251-7404 or email Richard.Jervey@nrc.gov.

SUPPLEMENTARY INFORMATION:

I. Introduction

The NRC is issuing a new guide in the NRC's “Regulatory Guide” series. This series was developed to describe and make available to the public information such as methods that are acceptable to the NRC staff for implementing specific parts of the agency's regulations, techniques that the staff uses in evaluating specific problems or postulated accidents, and data that the staff needs in its review of applications for permits and licenses.

RG 1.218, “Condition Monitoring Techniques for Electric Cables Used in Nuclear Power Plants”, was issued for public comment with a temporary identification as Draft Regulatory Guide, DG-1240. This guide describes techniques that the staff of the NRC considers acceptable for condition monitoring of electric cables for nuclear power plants. RG 1.218 is not intended to be prescriptive, instead it provides a description of many available techniques for testing cables of various configurations typically found in a nuclear power plant and discusses the potential suitability and known limitations of each.

II. Further Information

DG-1240, was published in the Federal Register on June 15, 2010, for a 60 day public comment period. The public comment period closed on August 12, 2010. Public comments on DG-1240 and the staff responses to the public comments are available under ADAMS Accession Number ML103510471.

For the Nuclear Regulatory Commission.
Dated at Rockville, Maryland, this 11th day of April 2012.
Thomas H. Boyce,
Chief, Regulatory Guide Development Branch, Division of Engineering, Office of Nuclear Regulatory Research.

[FR Doc. 2012-9691 Filed 4-20-12; 8:45 am]

BILLING CODE 7590-01-P